DEPARTMENT OF THE TREASURY

Submission for OMB Review; Comment Request

November 27, 2002.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

Dates: Written comments should be received on or before January 6, 2003 to be assured of consideration.

Internal Revenue Service (IRS)

OMB Number: 1545-1511.

Regulation Project Number: REG-209828-96 NPRM.

Type of Review: Extension.

Title: Nuclear Decommissioning Funds; Revised Schedules of Ruling Amounts.

Description: The regulations revise the requirements for requesting a schedule of ruling amounts based on a formula or method.

Respondents: Business or other for-profit.

Estimated Number of Respondents: 20.

Estimated Burden Hours Per Respondent: 5 hours.

Estimated Total Reporting Burden: 100 hours.

OMB Number: 1545-1514.

Regulation Project Number: REG-209040-88 NPRM.

Type of Review: Extension.

Title: Qualified Electing Fund Elections.

Description: The regulations permit certain shareholders to make a special section 1295 election with respect to certain prepared shares of a PFIC. Taxpayers must indicate on a Form 8621 and attach a statement containing certain information and representations. Form 8621 must be filed annually. The shareholder also must obtain, and retain a copy of, a statement from the corporation as to its status as a PFIC.

Respondents: Individuals or households, business or other for-profit.

Estimated Number of Respondents/Recordkeepers: 1,030.

Estimated Burden Hours Per Respondent/Recordkeeper: Varies.

Frequency of Response: On occasion.

Estimated Total Reporting/Recordkeeping Burden: 600 hours.

Clearance Officer: Glenn Kirkland, (202) 622-3428, Internal Revenue Service, Room 6411-03, 1111 Constitution Avenue, NW., Washington, DC 20224.

OMB Reviewer: Joseph F. Lackey, Jr., (202) 395-7316, Office of Management and Budget, Room 10235, New Executive Office Building, Washington, DC 20503.

Lois K. Holland,
Departmental Reports Management Officer.

[FR Doc. 02-30875 Filed 12-5-02; 8:45 am]

BILLING CODE 4830-01-P